DEPARTMENT OF JUSTICE

Antitrust Division

Notice Pursuant to the National Cooperative Research and Production Act of 1993—IMS Global Learning Consortium, Inc.

Notice is hereby given that, on December 17, 2018, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Abre, Cincinnati, OH; Brigham Young University—Idaho, Rexburg, ID; Casio, Tokyo, JAPAN; CatchOn, Nashville, TN; Crosstown High School, Memphis, TN; GG4L—Global Grid For Learning, Alameda, CA; Hall County Board of Education, Gainesville, GA; Learning Logistics, McKinney, TX; Madison College/Digital Credentials Institute, Madison; WI; and Michigan Collaboration Hub (fiduciary of the Michigan Data Hub), Lansing, MI, have been added as parties to this venture.

Also, Placid Consulting, Cedar Park, TX; Virtual High School, Maynard, MA; Indian River School District, Selbyville, DE; and Loudon County Public Schools, Ashburn, VA, have withdrawn as parties to this venture.

In addition, Norwegian Centre for ICT in Education has changed its name to Norwegian Directorate for Education, Hamar, NORWAY.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on October 1, 2018. A notice was published in the Federal Register pursuant to Section 6(b) of the Act on October 12, 2018 (83 FR 51706).

Suzanne Morris,
Chief, Premerger and Division Statistics Unit, Antitrust Division.

[FR Doc. 2019-00495 Filed 1-30-19; 8:45 am]

BILLING CODE 4410-11-P